FEDERAL EMERGENCY MANAGEMENT AGENCY

First Responder Initiative Grant Process

AGENCY: Federal Emergency Management Agency.

ACTION: Notice and request for comments.

SUMMARY: The President's Fiscal Year 2003 Budget proposes $3.5 billion in funding to prepare State and local first responders for terrorist attacks. Specifically, the initiative would include grants for planning, training, exercises, and equipment. While Congress has not acted on the President's proposal, the Federal Emergency Management Agency (FEMA) is preparing to implement the program if enacted by Congress. As part of a preliminary exploration of the issues, FEMA is soliciting ideas from all interested parties on the design of the grant program and processes. During the comment period, FEMA also will hold meetings on this subject with invited representatives from the State and local responder community and overall emergency management profession for the purpose of obtaining a variety of individual opinions.

DATES: Comments must be received by May 16, 2002.

ADDRESSES: Please send written comments to the Rules Docket Clerk, Office of the General Counsel, Federal Emergency Management Agency, 500 C Street, SW., room 840,Washington DC 20472, (facsimile) 202-646-4536, or (e-mail) rules@fema.gov.

FOR FURTHER INFORMATION CONTACT: Gil Jamieson, Federal Emergency Management Agency, Office of National Preparedness, 500 C Street, SW., Washington, DC 20472, (202) 646-4090 or e-mail gil.jamieson@fema.gov.

SUPPLEMENTARY INFORMATION: In preliminary exploration of the issues surrounding design of the President's proposed First Responder Initiative grant program, FEMA is soliciting responses to the following questions:

1. Does your jurisdiction have a plan in place that outlines the planning, training, equipment, and exercise needs of first responders? If not, would your jurisdiction be willing to develop such a plan? Do you have a recommendation as to how State and local governments and first response organizations may develop such plans jointly?

2. Does your jurisdiction have legislative, regulatory or budgetary restrictions that would prevent it from applying for, matching, or expending first responder grants?

3. Does your jurisdiction participate in mutual aid agreements? If local, what kinds of assistance are covered by the agreements and what is the extent of coverage: statewide, metropolitan area, or other? If a State, to which interstate mutual aid arrangements is your State a party? Does your State have a statewide mutual aid system? Should the Federal Government require States to participate in an interstate agreement and maintain an internal statewide mutual aid system as a condition of receiving these first responder grants?

4. Should meeting certain standards be a requirement for grantees? In what areas should standards be developed (e.g., training, interoperable communications and equipment, etc.) as part of this program? Do you have recommendations on the content of such standards? Should meeting any of these standards be a precondition of assistance rather than an outcome of the assistance?

5. What factors should be considered in deciding how much each State grantee and local subgrantee should receive (e.g., population, critical infrastructure)?

6. Does your jurisdiction have organizations in place to prepare grant applications, distribute funds, and report on progress? Please briefly describe this process.

7. Has your jurisdiction established a Citizen Corps Council to organize local volunteer efforts to assist first responders, or does it already have another organization performing that function? 8. What other factors should be considered in developing the First Responder grant program (e.g., participation in Citizen Corps or Citizen Corps related activities)?

Dated: April 9, 2002.
Bruce P. Baughman,
Director, Office of National Preparedness.

[FR Doc. 02-9153 Filed 4-15-02; 8:45 am]

BILLING CODE 6718-32-P